FEDERAL MARITIME COMMISSION

[Docket No. 02-14]

Avalon Risk Management, Inc., General Agent for Aegis Security Insurance Co. v. Michael Brian Deitchman, Arnistics, LLC and Advanced Global Logistics; Notice of Filing of Complaint and Assignment

Avalon Risk Management, Inc., General Agent for Aegis Security Insurance Co., (“Complainant”) has filed a complaint against Michael B. Deitchman; Arnistics, LLC; and Advanced Global Logistics (“Respondents”). Complainant states that it provided Ocean Transportation Intermediary (“OTI”) bonds to the Respondents, who represented that they would comply with all Federal Maritime Commission (“Commission”) OTI regulations, including paying freight and related charges. However, Complainant alleges that Respondents fraudulently induced carriers to release cargo to them or their agents, thus causing carriers to lose their liens on the cargo without payment. Four carriers have settled claims for the resultant damages with Complainant, to whom they have assigned their recovery rights. Complainant states that Respondent Deitchman breached the settlement agreement he entered into to indemnify the Complainant for the costs associated with the claims, thus violating the Shipping Act of 1984 (“Shipping Act”) by obtaining ocean transportation at less than the rates that would otherwise be applicable. Respondents are said to have violated section 10(a)(1) of the Shipping Act by issuing checks with insufficient funds as payment to carriers for the ocean freight and other charges incurred by Respondents, thereby obtaining ocean transportation at less than the rates that would otherwise be applicable. Complainant also alleges that Respondents violated certain OTI fiduciary duties.

Complainant asks the Commission to issue orders (1) compelling Respondents to answer its charges and scheduling a hearing in Washington DC; (2) against the Respondents for their violations of the Shipping Act; (3) compelling Respondents to make reparations to Complainant, plus interest, costs and attorneys' fees; and (4) holding that the Respondents' business activities described in the Complaint are unlawful and in violation of the Shipping Act and ordering them to cease and desist therefrom.

This proceeding has been assigned to the office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by October 1, 2003, and the final decision of the Commission shall be issued by January 26, 2004.

Bryant L. VanBrakle,
Secretary.

[FR Doc. 02-25695 Filed 10-8-02; 8:45 am]

BILLING CODE 6730-01-P